DEPARTMENT OF COMMERCE

International Trade Administration

(A-449-804)

Steel Concrete Reinforcing Bars from Latvia: Extension of the Time Limit for the Preliminary Results of Antidumping Duty Administrative Review

AGENCY: Import Administration, International Trade Administration, Department of Commerce.

EFFECTIVE DATE: April 26, 2005.

FOR FURTHER INFORMATION CONTACT: Daniel O'Brien or Shane Subler at (202) 482-1376 or (202) 482-0189, respectively; AD/CVD Operations, Office 1, Import Administration, International Trade Administration, U.S. Department of Commerce, 14th Street and Constitution Avenue, NW, Washington, DC 20230.

SUPPLEMENTARY INFORMATION:

TIME LIMITS:

Statutory Time Limits

Section 751(a)(3)(A) of the Tariff Act of 1930, as amended (the Act), requires the Department of Commerce (the Department) to complete the preliminary results of an administrative review within 245 days after the last day of the anniversary month of an order/finding for which a review is requested, and the final results within 120 days after the date on which the preliminary results are published. However, if it is not practicable to complete the review within these time periods, section 751(a)(3)(A) of the Act allows the Department to extend the time limit for (1) the preliminary results to a maximum of 365 days after the last day of the anniversary month of an order/finding for which a review is requested, and (2) the final results to 180 days (or 300 days if the Department does not extend the time limit for the preliminary results) from the date of publication of the preliminary results.

Background

On September 27, 2004, Joint Stock Company Liepajas Metalurgs, a Latvian producer of subject merchandise, requested an administrative review of the antidumping duty order on Steel Concrete Reinforcing Bars from Latvia. On September 30, 2004, the petitioners in the proceeding, the Rebar Trade Action Coalition¹ and its individual members, also requested an administrative review of the antidumping order. On October 22, 2004, the Department published a notice of initiation of the administrative review, covering the period September 1, 2003, through August 31, 2004 (69 FR 62022). The preliminary results are currently due no later than June 2, 2005.

¹ The Rebar Trade Action Coalition comprises Gerdau Ameristeel, CMC Steel Group, Nucor Corporation, and TAMCO.

Extension of Time Limit for Preliminary Results of Review

We determine that it is not practicable to complete the preliminary results of this review within the original time limits. Several complex issues related to merchandise classification and cost of production have been raised during the course of this administrative review. The Department needs more time to address these items and evaluate the issues more thoroughly.

For the reasons noted above, we are extending the time limit for completion of the preliminary results until no later than August 1, 2005. We intend to issue the final results no later than 120 days after publication of the preliminary results.

This notice is issued and published in accordance with section 751(a)(3)(A) of the Act.

Dated: April 20, 2005.
Barbara E. Tillman,
Acting Deputy Assistant Secretary for Import Administration.

[FR Doc. E5-1979 Filed 4-25-05; 8:45 am]

BILLING CODE 3510-DS-S